DEPARTMENT OF COMMERCE

International Trade Administration

[A-821-801]

Solid Urea From the Russian Federation: Final Results of Antidumping Duty Administrative Review; 2011-2012

AGENCY: Enforcement and Compliance (formerly Import Administration), International Trade Administration, Department of Commerce.

SUMMARY: On August 1, 2013, the Department of Commerce (the Department) published the preliminary results of the administrative review of the antidumping duty order on solid urea from the Russian Federation (Russia). For the final results, we continue to find that MCC EuroChem has not sold subject merchandise at less than normal value.

DATES: Effective Date: November 12, 2013.

FOR FURTHER INFORMATION CONTACT: Bryan Hansen or Minoo Hatten, AD/CVD Operations, Office I, Enforcement and Compliance (E&C), International Trade Administration, U.S. Department of Commerce, 14th Street and Constitution Avenue NW., Washington, DC 20230; telephone: (202) 482-3683, and (202) 482-1690, respectively.

SUPPLEMENTARY INFORMATION:

Background

On August 1, 2013, the Department published the preliminary results of the administrative review of the antidumping duty order on solid urea from Russia.¹ We invited interested parties to comment on the Preliminary Results. We received no comments.

¹ See Solid Urea From the Russian Federation: Preliminary Results of Antidumping Duty Administrative Review; 2011-2012, 78 FR 46571 (August 1, 2013) (Preliminary Results).

The Department conducted this administrative review in accordance with section 751(a) of the Tariff Act of 1930, as amended (the Act).

Scope of the Order

The merchandise subject to the order is solid urea, a high-nitrogen content fertilizer which is produced by reacting ammonia with carbon dioxide. The product is currently classified under the Harmonized Tariff Schedules of the United States (HTSUS) item number 3102.10.00.00. Previously such merchandise was classified under item number 480.3000 of the Tariff Schedules of the United States. Although the HTSUS subheading is provided for convenience and customs purposes, the written description of the merchandise subject to the order is dispositive.

Verification

As provided in section 782(i)(3) of the Act, during August 2013, the Department conducted a verification of the sales information reported by MCC EuroChem in Russia.²

² See Memorandum to the File entitled “Solid Urea from the Russian Federation: Verification Report for MCC EuroChem's Sales” dated August 30, 2013.

Final Results of the Review

The Department made no changes to its calculations announced in the Preliminary Results. As a result of our review, we determine that a weighted-average dumping margin of 0.00 percent exists for MCC EuroChem for the period July 1, 2011, through June 30, 2012.

Assessment Rates

In accordance with 19 CFR 351.212 and the Final Modification,³ the Department will instruct U.S. Customs and Border Protection (CBP) to liquidate entries for MCC EuroChem without regard to antidumping duties.

³ See Antidumping Proceedings: Calculation of the Weighted-Average Dumping Margin and Assessment Rate in Certain Antidumping Duty Proceedings; Final Modification, 77 FR 8101, 8102 (February 14, 2012) (Final Modification).

The Department clarified its “automatic assessment” regulation on May 6, 2003.⁴ This clarification will apply to entries of subject merchandise during the period of review produced by MCC EuroChem for which it did not know its merchandise was destined for the United States. In such instances, we will instruct CBP to liquidate unreviewed entries at the all-others rate if there is no rate for the intermediate company(ies) involved in the transaction.

⁴ For a full discussion of this clarification, see Antidumping and Countervailing Duty Proceedings: Assessment of Antidumping Duties, 68 FR 23954 (May 6, 2003).

We intend to issue instructions to CBP 15 days after publication of the final results of this review.

Cash Deposit Requirements

The following deposit requirements will be effective upon publication of the notice of final results of administrative review for all shipments of solid urea from Russia entered, or withdrawn from warehouse, for consumption on or after the date of publication as provided by section 751(a)(2) of the Act: (1) The cash deposit rate for MCC EuroChem will be 0.00 percent, the weighted average dumping margin established in the final results of this administrative review; (2) for previously reviewed or investigated companies not listed above, the cash deposit rate will continue to be the company-specific rate published for the most recently completed segment of this proceeding; (3) if the exporter is not a firm covered in this review, a prior review, or the original investigation but the manufacturer is, the cash deposit rate will be the rate established for the manufacturer of the merchandise for the most recently completed segment of this proceeding; (4) the cash deposit rate for all other manufacturers or exporters will continue to be 64.93 percent, the all-others rate established in the original less-than-fair-value (LTFV) investigation.⁵ The rate established in the LTFV investigation for the Soviet Union was applied to each new independent state, including Russia. These cash deposit requirements, when imposed, shall remain in effect until further notice.

⁵ See Urea From the Union of Soviet Socialist Republics; Final Determination of Sales at Less Than Fair Value, 52 FR 19557 (May 26, 1987). Also note that following the break-up of the Soviet Union, the antidumping duty order on solid urea from the Soviet Union was transferred to the individual members of the Commonwealth of Independent States. See Solid Urea From the Union of Soviet Socialist Republics; Transfer of the Antidumping Order on Solid Urea From the Union of Soviet Socialist Republics to the Commonwealth of Independent States and the Baltic States and Opportunity to Comment, 57 FR 28828 (June 29, 1992).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act, and 19 CFR 351.213(h).

Dated: November 5, 2013.
Paul Piquado,
Assistant Secretary for Enforcement and Compliance.

[FR Doc. 2013-27010 Filed 11-8-13; 8:45 am]

BILLING CODE 3510-DS-P